DEPARTMENT OF THE TREASURY

Submission for OMB Review; Comment Request

January 17, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 28, 2003 to be assured of consideration.

Internal Revenue Service (IRS)

OMB Number: 1545-1146.

Regulation Project Number: PS-54-89 Final.

Type of Review: Extension.

Title: Applicable Conventions Under the Accelerated Cost Recovery System.

Description: The regulations describe the time and manner of making the notation required to be made on Form 4562 under certain circumstances when the taxpayer transfers property in certain non-recognition transactions. The information is necessary to monitor compliance with the section 168 rules.

Respondents: Business or other for-profit, Farms.

Estimated Number of Respondents: 700.

Estimated Burden Hours Per Respondent: 6 minutes.

Frequency of Response: On occasion, Annually.

Estimated Total Reporting Burden: 700 hours.

OMB Number: 1545-1290.

Regulation Project Number: FI-81-86 Final.

Type of Review: Extension.

Title: Bad Debt Reserves of Banks.

Description: Section 585© of the Internal Revenue Code requires large banks to change from the reserve method of accounting to the specific charge off method of accounting for bad debts. The information required by section 1.585-8 of the regulations identifies any election made or revoked by the taxpayer in accordance with section 585(c).

Respondents: Business or other for-profit.

Estimated Number of Respondents: 2,500.

Estimated Burden Hours Per Respondent: 15 minutes.

Frequency of Response: Annually.

Estimated Total Reporting Burden: 625 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports Management Officer.

[FR Doc. 03-2025 Filed 1-28-03; 8:45 am]

BILLING CODE 4830-01-P